DEPARTMENT OF THE INTERIOR

National Park Service

[NPS-WASO-NAGPRA-NPS0037203; PPWOCRADN0-PCU00RP14.R50000]

Notice of Inventory Completion: Portland State University, Portland, OR

AGENCY: National Park Service, Interior.

ACTION: Notice.

SUMMARY: In accordance with the Native American Graves Protection and Repatriation Act (NAGPRA), Portland State University (PSU) has completed an inventory of human remains and has determined that there is a cultural affiliation between the human remains and Indian Tribes or Native Hawaiian organizations in this notice. The human remains were removed from Columbia County, OR, and Cowlitz County, WA.

DATES: Repatriation of the human remains in this notice may occur on or after February 7, 2024.

ADDRESSES: Reno Nims, Portland State University, Research & Graduate Studies, P.O. Box 751, Portland, OR 97207, telephone (503) 725-6611, email nagpra@pdx.edu.

SUPPLEMENTARY INFORMATION: This notice is published as part of the National Park Service's administrative responsibilities under NAGPRA. The determinations in this notice are the sole responsibility of PSU. The National Park Service is not responsible for the determinations in this notice. Additional information on the determinations in this notice, including the results of consultation, can be found in the inventory or related records held by PSU.

Description

Human remains representing, at minimum, three individuals were removed from the Trojan site (35-CO-1) in Columbia County, OR, between 1968 and 1970 by members of the Oregon Archaeological Society. Excavated human remains were taken to PSU for osteological analysis. Radiocarbon dates and fur trade items from the site suggest these individuals may have been buried between 600 cal CE and the early 1800s CE. No associated funerary objects are present.

Human remains representing, at minimum, four individuals were removed from the Abernathy Creek site (45-CW-2) in Cowlitz County, WA, sometime before 1940, by Sanford Lord. In 1960, Sanford Lord donated these human remains to the Cowlitz County Historical Museum along with the bulk of his collection of Native American objects. On May 4, 1998, the director of the Cowlitz County Historical Museum, David Freece, transferred these human remains to PSU. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, and historical information.

Determinations

Pursuant to NAGPRA and its implementing regulations, and after consultation with the appropriate Indian Tribes and Native Hawaiian organizations, PSU has determined that:

• The human remains described in this notice represent the physical remains of seven individuals of Native American ancestry.

• There is a relationship of shared group identity that can be reasonably traced between the human remains described in this notice and the Confederated Tribes and Bands of the Yakama Nation; Confederated Tribes of Siletz Indians of Oregon; Confederated Tribes of the Grand Ronde Community of Oregon; Confederated Tribes of the Umatilla Indian Reservation; Confederated Tribes of the Warm Springs Reservation of Oregon; and the Cowlitz Indian Tribe.

Requests for Repatriation

Written requests for repatriation of the human remains in this notice must be sent to the Responsible Official identified in ADDRESSES. Requests for repatriation may be submitted by:

1. Any one or more of the Indian Tribes or Native Hawaiian organizations identified in this notice, and, if joined to a request from one or more of the Indian Tribes, Chinook Indian Nation, a non-federally recognized Indian group.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after February 7, 2024. If competing requests for repatriation are received, PSU must determine the most appropriate requestor prior to repatriation. Requests for joint repatriation of the human remains are considered a single request and not competing requests. PSU is responsible for sending a copy of this notice to the Indian Tribes and Native Hawaiian organizations identified in this notice.

Authority: Native American Graves Protection and Repatriation Act, 25 U.S.C. 3003, and the implementing regulations, 43 CFR 10.9, 10.10, and 10.14.

Melanie O'Brien,
Manager, National NAGPRA Program.

[FR Doc. 2024-00132 Filed 1-5-24; 8:45 am]

BILLING CODE 4312-52-P